DEPARTMENT OF TRANSPORTATION

Coast Guard

33 CFR Part 165

[COTP TAMPA 02-046]

RIN 2115-AA97

Security Zone; Port of Tampa, Tampa, FL

AGENCY: Coast Guard, DOT.

ACTION: Temporary final rule.

SUMMARY: The Coast Guard is establishing temporary security zones within the Port of Tampa extending 50 yards from the shore or seawall and encompassing all piers around facilities in the following locations: Port Sutton, East Bay, Hooker's Point, Sparkman Channel, Ybor Channel and portions of Garrison Channel. Also, all recreational vessels and commercial fishing vessels are prohibited from operating in the Port Sutton Terminal Channel area. The purpose of these security zones is to safeguard the public and ports from destruction, loss, or injury from sabotage or other subversive acts. No person or vessel may enter a security zone without permission from the Captain of the Port, Tampa, Florida or his designated representative.

DATES: This regulation is effective from 6 p.m. on May 1, 2002 until 6 p.m. on June 15, 2002.

ADDRESSES: Comments and material received from the public, as well as documents indicated in this preamble as being available in the docket, are part of COTP Tampa 02-046 and are available for inspection or copying at Marine Safety Office Tampa, 155 Columbia Drive, Tampa, Florida 33606-3598 between 7:30 a.m. and 3 p.m. Monday through Friday, except Federal holidays.

FOR FURTHER INFORMATION CONTACT: LT David McClellan, Coast Guard Marine Safety Office Tampa, at (813) 228-2189.

SUPPLEMENTARY INFORMATION:

Regulatory Information

We did not publish a notice of proposed rulemaking (NPRM) for this regulation. Under 5 U.S.C. 553(b)(B), the Coast Guard finds that good cause exists for not publishing a NPRM. Publishing a NPRM and delaying the rule's effective date would be contrary to the public interest since immediate action is needed to protect the public, ports and waterways of the United States. The Coast Guard will issue a broadcast notice to mariners and place Coast Guard vessels in the vicinity of these zones to advise mariners of the restriction.

For the same reasons, under 5 U.S.C. 553(d)(3), the Coast Guard finds that good cause exists for making this rule effective less than 30 days after publication in the Federal Register.

Background and Purpose

Based on the September 11, 2001 terrorist attacks on the World Trade Center buildings in New York and the Pentagon in Arlington, Virginia, there is an increased risk that subversive activity could be launched by vessels or persons in close proximity to certain facilities within Tampa Bay. These facilities include but are not limited to; Cruise Ship Terminals, Liquefied Petroleum Gas (LPG), Anhydrous Ammonia (NH3) and/or flammable liquid cargo facilities. Due to the close proximity of several facilities in the Port Sutton area, it is necessary to restrict all recreational vessels and commercial fishing vessels from operating in this area. The zones will be 50 yards from shoreline or seawall and encompassing all piers around facilities commencing at:

Zone One: 27° 54.16′N 082°26.11′W, eastnortheast to 27°54.19′N 082°26.00′W, then northeast to 27°54.37′N 082°25.72′W Closing off all of Port Sutton Channel to commercial and recreational fisherman, then northerly to 27°54.48′N 082°25.72′W, then northeasterly and terminating at point 27°55.27′N 082°25.17′W.

Zone Two: 27°56.05′N 082°25.95′W southwesterly to 27°56.00′N 082°26.08′W then southerly 27°55.83′N 082°26.07′W then southeasterly to 27°55.66′N 082°25.73′W the south to 27°54.75′N 082°25.74′W then southwesterly and terminating at point 27°54.57′N 082°25.86′W.

Zone Three: 27°54.74′N 082°26.47′W, northwest to 27°55.25′N 082°26.73′W, then north-northwest to 27°55.60′N 082°26.80′W, then north-northeast to 27°56.00′N 082°26.74′W, then northeast 27°56.56′N 082°26.55′W, and north to 27°56.84′N 082°26.55′W, west to 27°56.84′N 082°26.66′W, then southerly to 27°56.65′N 082°26.66′W, southwesterly to 27°56.7′N 082°26.7′W then southwesterly and terminating at 27°56.53′N 082°26.96′W.

All positions noted are fixed using the North American Datum of 1983 (World Geodetic System 1984). Coast Guard and local law enforcement patrol vessels will be on scene to enforce these zones. Entry into a security zone is prohibited, unless specifically authorized by the Captain of the Port, Tampa, Florida.

Regulatory Evaluation

This rule is not a significant regulatory action under section 3(f) of Executive Order 12866, Regulatory Planning and Review, and does not require an assessment of potential costs and benefits under section 6(a)(3) of that order. The rule would prevent recreational fishing next to piers and seawalls of specified facilities in Port Tampa and entry into Port Sutton. There remain ample fishing locations for recreational fisherman to make use of in the local area. The Office of Management and Budget has not reviewed it under that order. It is not significant under the regulatory policies and procedures of the Department of Transportation (DOT) (44 FR 11040; February 26, 1979).

Small Entities

Under the Regulatory Flexibility Act (5 U.S.C. 601-612), the Coast Guard considered whether this rule would have a significant economic effect upon a substantial number of small entities. “Small entities” include small businesses, not-for-profit organizations that are independently owned and operated and are not dominant in their fields, and governmental jurisdictions with populations of less than 50,000.

The Coast Guard certifies under 5 U.S.C. 605(b) that this rule will not have a significant economic impact on a substantial number of small entities because small entities may be allowed to enter on a case by case basis with the authorization of the Captain of the Port.

Assistance for Small Entities

Under section 213(a) of the Small Business Regulatory Enforcement Fairness Act of 1996 (Public Law 104-121), we offer to assist small entities in understanding the rule so that they can better evaluate its effects on them and participate in the rulemaking process. If the rule will affect your small business, organization, or government jurisdiction and you have questions concerning its provisions or options for compliance, please contact the person listed under FOR FURTHER INFORMATION CONTACT for assistance in understanding this rule.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new information collection requirements under the Paperwork Reduction Act (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not effect a taking of private property or otherwise have taking Implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Environmental

The Coast Guard considered the environmental impact of this rule and concluded under Figure 2-1, paragraph 34(g) of Commandant Instruction M16475.1D, this rule is categorically excluded from further environmental documentation.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it does not have a substantial direct effect on one or more Indian tribes, on the relationships between the Federal Government and Indian tribes, or on the distribution of power and responsibilities between the Federal Government and Indian tribes.

Energy Effects

We have analyzed this rule under Executive Order 13211, Actions Concerning Regulations That Significantly Affect Energy Supply, Distribution, or use. We have Determined that it is not a “significant energy action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reports and record keeping requirements, Security measures, Waterways.

For the reasons discussed in the preamble, the Coast Guard amends 33 CFR part 165, as follows:

PART 165—[AMENDED] REGULATED NAVIGATION AREAS AND LIMITED ACCESS AREAS

1. The authority citation for part 165 continues to read as follows:

Authority: 33 U.S.C. 1231; 50 U.S.C. 191, 33 CFR 1.05-1(g), 6.04-1, 6.04-6, 6.04-11, 160.5; 49 CFR 1.46.

2. A new temporary § 165.T07-046 is added to read as follows:

§ 165.T07-046 Security Zone; Port of Tampa, Tampa Bay, Florida.

(a) Regulated areas: Temporary security zones are established 50 yards from shoreline or seawall and encompassing all piers around facilities commencing at:

(1) Zone One: 27°54.16′ N 082°26.11′ W, eastnortheast to 27°54.19′ N 082°26.00′ W, then northeast to 27°54.37′ N 082°25.72′ W Closing off all of Port Sutton Channel to commercial and recreational fisherman, then northerly to 27°54.48′ N 082°25.72′ W, then northeasterly and terminating at point 27°55.27′ N 082°25.17′ W. (NAD 83)

(2) Zone Two: 27°56.05′ N 082°25.95′ W southwesterly to 27°56.00′ N 082°26.08′ W then southerly 27°55.83′ N 082°26.07′ W then southeasterly to 27°55.66′ N 082°25.73′ W the south to 27°54.75′ N 082°25.74′ W then southwesterly and terminating at point 27°54.57′ N 082°25.86′ W. (NAD 83)

(3) Zone Three: 27°54.74′ N 082°26.47′ W, northwest to 27°55.25′ N 082°26.73′ W, then north-northwest to 27°55.60′ N 082°26.80′ W, then north-northeast to 27°56.00′ N 082°26.74′ W, then northeast 27°56.56′ N 082°26.55′ W, and north to 27°56.84′ N 082°26.55′ W, west to 27°56.84′ N 082°26.66′ W, then southerly to 27°56.65′ N 082°26.66′ W, southwesterly to 27°56.7′ N 082°26.7′ W then southwesterly and terminating at 27°56.53′ N 082°26.96′ W. (NAD 83)

(b) Regulations: In accordance with the general regulations in § 165.33 of this part, entry into these zones is prohibited except as authorized by the Captain of the Port, or his designated representative. The Captain of the Port will notify the public via Marine Safety Radio Broadcast on VHF Marine Band Radio, Channel 13 and 16 (157.1 MHz).

(c) Dates. This section is effective from 6 p.m. on May 1, 2002 until 6 p.m. on June 15, 2002.

Dated: April 16, 2002.
A.L. Thompson, Jr.,
Captain, U.S. Coast Guard, Captain of the Port.

[FR Doc. 02-15185 Filed 6-12-02; 2:26 pm]

BILLING CODE 4910-15-P